DEPARTMENT OF THE INTERIOR

Bureau Of Land Management

[LLORW00000.L16100000.DF0000.17XL1109AF.HAG17-0048]

Notice of Public Meeting for the Eastern Washington Resource Advisory Council

AGENCY: Bureau of Land Management, Interior.

ACTION: Notice of public meeting.

SUMMARY: In accordance with the Federal Land Policy and Management Act and the Federal Advisory Committee Act of 1972, and the U.S. Department of the Interior, Bureau of Land Management (BLM), the Eastern Washington Resource Advisory Council (EWRAC) will meet as indicated below:

DATES: The EWRAC will hold a public meeting Wednesday, February 8th, 2017. The meeting will run from 9:30 a.m. to 3:30 p.m. The meeting will be held at the BLM Spokane District Office, 1103 N. Fancher, Spokane Valley, WA 99212. A public comment period will be available in the afternoon from noon until 1 p.m.

FOR FURTHER INFORMATION CONTACT: Jeff Clark, Spokane District Public Affairs Officer, 1103 N. Fancher, Spokane Valley, WA 99212, (509) 536-1297, or jeffclark@blm.gov. Persons who use a telecommunications device for the deaf (TDD) may call the Federal Relay Service at 1(800) 877-8339 to contact the above individual during normal business hours. This service is available 24 hours a day, 7 days a week, to leave a message or question with the above individual. You will receive a reply during normal business hours.

SUPPLEMENTARY INFORMATION: The fifteen member EWRAC was chartered to provide information and advice regarding the use and development of the lands administered by the Spokane District in central and eastern Washington. Members represent an array of stakeholder interests in the land and resources from within the local area and statewide. All advisory council meetings are open to the public. At noon members of the public will have the opportunity to make comments to the EWRAC during a one hour public comment period. Persons wishing to make comments during the public comment period should register in person with the BLM by 11 a.m. on the meeting day, at the meeting location. Depending on the number of persons wishing to comment, the length of comments may be limited. The public may send written comments to the EWRAC at BLM Spokane District, Attn. EWRAC, 1103 N. Fancher, Spokane Valley, WA 99212. The BLM appreciates all comments.

Linda Clark,
Spokane District Manager.

[FR Doc. 2016-31027 Filed 12-22-16; 8:45 am]

BILLING CODE 4310-33-P